DEPARTMENT OF HOUSING AND URBAN DEVELOPMENT

[Docket Nos. FR-4900-FA-05, FR-4900-FA-06, FR-4900-FA-10, FR-4900-FA-08, FR-4900-FA-11, FR-4900-FA-04, and FR-4900-FA-14]

Announcement of Funding Award—FY 2004 Healthy Homes and Lead Based Paint Hazard Control Grant Programs

AGENCY: Office of the Secretary—Office of Healthy Homes and Lead Hazard Control, HUD.

ACTION: Announcement of funding awards.

SUMMARY: In accordance with section 102(a)(4)(C) of the Department of Housing and Urban Development Reform Act of 1989, this announcement notifies the public of additional funding decisions made by the Department in a competition for funding under the Healthy Homes Demonstration Grant Program, Healthy Homes Technical Studies Grant Program, Lead Technical Studies Grant Program, Lead-Based Paint Hazard Control Grant Program, Operation Lead Elimination Action Program, Lead Based Paint Hazard Reduction Demonstration Grant Program, and Lead Outreach Grant Program Notice of Funding Availability (NOFA). This announcement contains the names and addresses of the award recipient and the amount of award.

FOR FURTHER INFORMATION CONTACT: For the Healthy Homes Demonstration Grant Program, Emily Williams, Department of Housing and Urban Development, Office of Healthy Homes and Lead Hazard Control, Room P3206, 451 Seventh Street, SW., Washington, DC 20410, telephone (336) 547-4002, extension 2067. For the Healthy Homes Technical Studies Grant Program and Lead Technical Studies Grant Program, Peter Ashley, at the same address, telephone number (202) 755-1785, extension 115. For the Lead-Based Paint Hazard Control Grant Program, Operation Lead Elimination Action Program, Lead Based Paint Hazard Reduction Demonstration Grant Program, and Lead Outreach Grant Program, Jonnette Hawkins, at the same address, telephone (202) 755-1785, extension 126. Hearing- and speech-impaired persons may access the number above via TTY by calling the toll free Federal Information Relay Service at 1-800-877-8339.

SUPPLEMENTARY INFORMATION: The 2004 awards were announced in the HUD News on September 27, 2004. These awards were the result of competitions announced in Federal Register notices published on May 14, 2004, for the Healthy Homes Demonstration Grant Program at 69 FR 27297, for the Healthy Homes Technical Studies Program at 69 FR 27227, for the Lead Technical Studies Grant Program at 69 FR 27243, for the Lead-Based Paint Hazard Control Grant Program at 69 FR 27195, for the Operation Lead Elimination Action Program at 69 FR 27319, for the Lead Based Paint Hazard Reduction Demonstration Grant Program at 69 FR 27271, and for the Lead Outreach Grant Program at 69 FR 27257. The purpose of the competition was to award grant funding of approximately $5,000,000 for Healthy Homes Demonstration grants, approximately $2,000,000 for Healthy Homes Technical Studies grants, approximately $3,000,000 for Lead Technical Studies grants, approximately $95,000,000 in fiscal year 2004 funds and $710,000 in previous recapture funds for Lead Based Paint Hazard Control grants, approximately $9,000,000 for Operation Lead Elimination Action Program grants, approximately $50,000,000 for Lead Based Paint Hazard Reduction Demonstration grants, and approximately $2,000,000 for Lead Outreach grants. Applications were scored and selected on the basis of selection criteria contained in those notices.

Healthy Homes Demonstration: City of Long City of Long Beach, Health and Human Services, 2525 Grand Avenue, Room 220, Long Beach, CA 90815-1765, $1,071,184; County of Riverside, Department of Public Health, Community Health Agency, 4065 County Circle Dr. #304, Riverside, CA 92503, $1,000,000; Philadelphia Housing Authority, Program Compliance, 12 South 23rd Street, Philadelphia, PA 19103, $1,000,000; St Louis County, Office of Community Development, 121 S. Meramec Avenue, Suite 444, Clayton, MO 63105, $876,731; Columbus Health Department, Environmental Health, 240 Parsons Avenue, Columbus, OH 43215, $999,968; Eastern Virginia Medical School, Pediatrics, 358 Nowbray Arch, Norfolk, VA 23507, $999,663; Healthy Homes Resources, 64 South 14th Street, Pittsburgh, PA 15203, $910,875.00.

Healthy Homes Technical Studies: University of Colorado Health Sciences Center, Preventive Medicine and Biometrics, 4200 E. 9th Avenue, C-245, Denver, CO 80262, $679,649; Georgia Tech Applied Research Corporation, Georgia Tech Research Institute, 505 Tenth St., NW., Atlanta, GA 30332-0420, $468,890; Board of Trustees-University of Illinois at Urbana-Champaign, Building Research Council-Dept of Architecture, 109 Coble Hall, 801 S. Wright Street, Champaign, IL 61820, $576,896; The University of Texas Health Science Center at San Antonio, Pediatrics, 7703 Floyd Curl Drive, San Antonio, TX 78229-3900, $957,906.

Lead Technical Studies: Edenspace Systems Corporation, 15100 Enterprise Court, Suite 100, Chantilly, VA 20151-1217, $404,714; The University of Texas at San Antonio Institute for Research in Water and Environmental Resources, 6900 North Loop 1604 West, San Antonio, TX 78249, $372,767; Howard University, Center for Urban Progress, 2400 6th Street, NW., Washington, DC 20059, $750,000; University of Cincinnati College of Medicine, P.O. Box 670553, Cincinnati, OH 45267-0553, $380,498.

Lead-Based Paint Hazard Control: City of Minneapolis, Public Service Center, Room 414, 250 South Fourth Street, Minnesota, MN 55415, $3,000,000; City of Bridgeport, 99 Broad Street, 2nd Floor, Bridgeport, CT 06604, $3,000,000; City of San Antonio, 1400 South Flores, San Antonio, TX 78204, $2,000,000; City and County San Francisco, Mayor's Office of Housing, 25 Van Ness Avenue, Suite 600, San Francisco, CA 94102, $3,000,000; Illinois Dept. of Public Health, 525 West Jefferson Street, Springfield, IL 62761, $4,000,000; City of Pittston, 35 Broad Street, Pittston, PA 18640, $2,951,644; City of Birmingham, 710 North 20th Street, Birmingham, AL 35203, $2,998,957; City of St Louis, Community Development Administration, 1015 Locust Street, Suite 1200, St. Louis, MO 63101, $3,000,000; City of New London, Department of Health and Social Services, 181 State Street, New London, CT 06320, $2,452,762; Onondaga County, 1100 Civic Center, Onondaga, NY 13202, $3,000,000; City of Columbus, Department of Development, 50 West Gay Street, Columbus, OH 43215, $2,999,817; City of Long Beach, Health and Human Services, 2525 Grand Avenue, Room 220, Long Beach, CA 90815-1765, $3,000,000; City of Pomona, Community Development Department, 505 South Garey Avenue, Pomona, CA 91769, $2,992,695; State of California, Community Services and Development, 700 North 10th Street, Room 258, Sacramento, CA 95814, $3,000,000; Delaware Health and Social Services, Health Systems Protection, 417 Federal Street, Kent, DE 19903, $2,961,903; City of Miami, 444 S.W. 2nd Avenue, 2 Floor, Miami, FL 33130, $3,000,000; City of Cambridge, Community Development Department, 795 Massachusetts Avenue, Cambridge, MA 02139, $3,000,000; City of Lawrence, Office of Planning and Development, 147 Haverhill Street, Lawrence, MA 01840, $3,000,000; City of Portland, 389 Congress Street 04101, Portland, ME, $1,500,000; Saginaw County, Department of Public Health, 1600 N. Michigan, Saginaw, MI 48602, $3,000,000; City of Albany, City of Albany Community Development Agency, 200 Henry Johnson Blvd, Albany, NY 12210, $3,000,000; City of Syracuse, Community Development, 201 E. Washington Street, Syracuse, NY 13202, $3,000,000; City of Springfield, Human Resources, 76 E. High Street, Springfield, OH, $3,000,000; Mahoning County, Board of Mahoning County Commissioners, Youngstown, OH 44515, $3,000,000; City of Portland, Bureau of Housing and Community Development, 421 SW Sixth Avenue, Suite 1100, Portland, OR 97204, $3,000,000; State of Rhode Island, 44 Washington Street, Providence, RI 02903, $3,152,446; City of Spokane, Community Development Department, 906 Columbia Street SW., Olympia, WA 53202, $2,290,954; Wisconsin State Department of Administration, Administration, 101 S Webster St, 6th Floor, Madison, WI 53702, $3,000,000; City of Milwaukee, Department of Health, 841 N. Broadway—Room 118, Milwaukee, WI 53202, $3,000,000; Cuyahoga County Board of Health, 5550 Venture Drive, Parma, OH 44130, $3,000,000; City of Greensboro, Department of Housing and Community Development, 300 West Washington Street, Room 315, P.O. Box 3136, Greensboro, NC 27402-3136, $3,000,000; City of Charlotte, Neighborhood Development, 600 East Trade Street, Charlotte, NC 28202, $3,000,000; City of Portland, Bureau of Housing and Community Development, 421 SW Sixth Avenue, Suite 1100, Portland, OR 97204, $3,000,000.

Operation Lead Elimination Action Program: The ACCESS Agency, Inc., Housing Department, 1315 Main Street, Willimantic, CT 06226, $1,720,000; Acorn Associates, Inc., 1024 Elysian Fields Ave., New Orleans, LA, $2,000,000; Environmental Education Associates, 2929 Main Street, Buffalo, NY 14214, $1,245,642; United Parents Against Lead National, Inc., 4115 Old Hopkins Road, Richmond, VA 23234, $2,000,000.

Lead-Based Paint Hazard Reduction Demonstration: Madison County, Community Development, 130 Hillsboro Ave., Ste. 100, Edwardsville, IL 62025, $782,654; City of New York, Department of Housing Preservation and Development, 100 Gold Street, New York, NY 10038, $4,000,000; City of Boston, Public Facilities Department, 26 Court Street, Boston, MA 02108, $4,000,000; City of Detroit, Planning and Development Department, 65 Cadillac Square, Detroit, MI 48226, $4,000,000; City of St. Louis, Community Development Administration, 1015 Locust Street, Suite 1200, St. Louis, MO 63101, $4,000,000; City of Baltimore, Baltimore City Health Department, 210 Guilford Avenue 3rd Floor, Baltimore, MD 21202, $4,000,000; City of Albany, New York, City of Albany Community Development Agency, 200 Henry Johnson Blvd., Albany, NY 12210, $4,000,000; City of Buffalo, Office of Strategic Planning, 920 City Hall, Buffalo, NY 14202, $1,495,884; City of Rochester, Community Development, 30 Church St. Room 028B, Rochester, NY 14614, $2,499,310; City of Philadelphia, Department of Public Health, 2100 West Girard Ave, Philadelphia Nursing Home, Building # 3, Philadelphia, PA 19130, $4,000,000; City of Providence, Department of Planning and Development, 44 Washington Street, Providence, RI 02903, $3,927,152; City of Houston, Houston Department of Health & Human Services, 8000 N Stadium Drive, Houston, TX 77054, $3,000,000; City of Milwaukee, Childhood Lead Poisoning Prevention Program, 841 N. Broadway—Room 118, Milwaukee, WI 53202, $4,000,000.

Lead Outreach: The City of New York Department of Housing Preservation and Development, 100 Gold Street, New York, NY 10038, $500,000; Southwest Fair Housing Council, 801 W. Roosevelt, Phoenix, AZ 85007-2135, $496,171; Rhode Island Housing Resources Commission, 41 Eddy Street, Providence, RI 02903, $511,146.11; City of Milwaukee Health Department, 841 N. Broadway—Room 118, Milwaukee, WI 53202, $419,309.

Dated: April 15, 2005.
Joseph Smith,
Deputy Director, Office of Healthy Homes and Lead Hazard Control.

[FR Doc. E5-1886 Filed 4-21-05; 8:45 am]

BILLING CODE 4210-70-P